DEPARTMENT OF THE INTERIOR

Bureau of Land Management

[LLNMP0000 L13110000.XH0000]

Notice of Public Meeting, New Mexico Resource Advisory Council Meeting

AGENCY: Bureau of Land Management, Interior.

ACTION: Notice of public meeting.

SUMMARY: In accordance with the Federal Land Policy and Management Act and the Federal Advisory Committee Act of 1972, the U.S. Department of the Interior, Bureau of Land Management (BLM), Pecos District Resource Advisory Council (RAC), will meet as indicated below.

DATES: The meeting date is September 20, 2011, at the Bureau of Land Management Pecos District Office, 2909 W. 2nd Street, Roswell, NM 88201, from 10 a.m.-4 p.m. The public may send written comments to the RAC at the above address.

FOR FURTHER INFORMATION CONTACT: Betty Hicks, Pecos District, Bureau of Land Management, 2909 W. 2nd Street, Roswell, NM 88201, 575-627-0242.

SUPPLEMENTARY INFORMATION: The 10-member RAC advises the Secretary of the Interior, through the Bureau of Land Management, on a variety of planning and management issues associated with public land management in New Mexico. Planned agenda items include a welcome and introduction of new Council members, election of officers, overview and procedures of resource advisory councils, issues and concerns in BLM Pecos District and future project work for the RAC.

A half-hour public comment period during which the public may address the Council is scheduled to begin at 2:30 p.m. on September 20. All RAC meetings are open to the public. Depending on the number of individuals wishing to comment and time available, the time for individual oral comments may be limited.

Douglas J. Burger,
District Manager.

[FR Doc. 2011-16995 Filed 7-6-11; 8:45 am]

BILLING CODE 4310-VA-P